DEPARTMENT OF ENERGY

Federal Energy Regulatory Commission

Sunshine Act Meeting

June 19, 2002.

The following notice of meeting is published pursuant to section 3(A) of the Government in the Sunshine Act (Pub. L. No. 94-409), 5 U.S.C 552B:

Agency Holding Meeting: Federal Energy Regulatory Commission.

Date and Time: June 26, 2002, 10 a.m.

Place: Room 2C, 888 First Street, NE., Washington, DC 20426.

Status: Open.

Matters To Be Considered: Agenda.

*Note: Items listed on the Agenda may be deleted without further notice.

Contact Person for More Information: Magalie R. Salas, Secretary, (202) 208-0400. For a recording listing items stricken from or added to the meeting, call (202) 208-1627.

This is a list of matter to be considered by the commission. It does not include a listing of all papers relevant to the items on the agenda; however, all public documents may be examined in the reference and information center.

797TH—Meeting June 26, 2002; Regular Meeting 10 a.m.

Administrative Agenda

A-1.

Docket# AD02-1, 000, Agency Administrative Matters

A-2.

Docket# AD02-7, 000, Customer Matters, Reliability, Security and Market Operations

A-3.

Docket# AD02-19, 000, Market Performance Reports from ISO New England Inc., New York Independent System Operator, Inc., PJM Interconnection, L.L.C. and California Independent System Operator, Inc.

A-4.

Docket# RM01-12, 000, Electricity Market Design and Structure

Other#s RT01-2, 000, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RT01-2, 001, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RT01-2, 002, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RT01-2, 003, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RT01-98, 000, PJM Interconnection, L.L.C.

RT01-87, 000, Midwest Independent System Operator

EL02-65, 000, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

EL02-65, 002, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

EL02-65, 003, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

EL02-65, 004, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

EL02-65, 005, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

EL02-65, 006, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company

Markets, Tariffs and Rates—Electric

E-1.

Omitted

E-2.

Docket# ER02-1767, 000, Midwest Independent Transmission System Operator, Inc.

Other#s ER01-3142, 007, Midwest Independent Transmission System Operator, Inc.

E-3.

Docket# ER02-1663, 000, Tampa Electric Company

E-4.

Omitted

E-5.

Omitted

E-6.

Docket# ER02-1755, 000, New England Power Pool

E-7.

Docket# ER02-1177, 000, Tampa Electric Company

E-8.

Omitted

E-9.

Omitted

E-10.

Docket# ER02-597, 000, PJM Interconnection, L.L.C.

E-11.

Docket# ER00-1969, 009, New York Independent System Operator, Inc.

Other#s ER00-1969, 012, New York Independent System Operator, Inc.

ER00-3591, 008, New York Independent System Operator, Inc.

ER00-3591 010, New York Independent System Operator, Inc.

E-12.

Docket# ER02-1706, 000, PJM Interconnection, L.L.C.

E-13.

Docket# ER02-613, 001, San Diego Gas & Electric Company

E-14.

Docket# ER02-1710, 000, Southwest Power Pool, Inc.

E-15.

Docket# ER01-3009, 005, New York Independent System Operator, Inc.

Other#s EL00-90, 005, New York Independent System Operator, Inc.

EL00-90, 007, New York Independent System Operator, Inc.

ER01-3009, 007, New York Independent System Operator, Inc.

ER01-3153, 005, New York Independent System Operator, Inc.

ER01-3153, 007, New York Independent System Operator, Inc.

E-16.

Docket# OA96-194, 008, Niagara Mohawk Power Corporation

Other#s OA96-194, 009, Niagara Mohawk Power Corporation

E-17.

Docket# ER02-1266, 001, Niagara Mohawk Power Corporation

E-18.

Docket# ER02-637, 002, Pacific Gas & Electric Company

E-19.

Docket# TX97-8, 001, PECO Energy Company

Other#s TX97-8, 000, PECO Energy Company

E-20.

Docket# ER99-230, 003, Alliant Services Company

E-21.

Docket# ER02-1021, 001, Ontario Energy Trading International Corporation

E-22.

Docket# EL02-11, 001, Central Maine Power Company

E-23.

Omitted

E-24.

Docket# ER97-2353, 003, New York State Electric & Gas Corporation

E-25.

Docket# EL01-19, 001, H.Q. Energy Services (U.S.), Inc. v. New York Independent System Operator, Inc.

Other#s EL02-16, 001, PSEG Energy Resource & Trade LLC v. New York Independent System Operator, Inc.

E-26.

Docket# ER01-3149, 001, Nevada Power Company

E-27.

Omitted

E-28.

Docket# EL00-62, 043, ISO New England

Other#s ER98-3853, 012, New England Power Pool

ER98-3853, 013, New England Power Pool

EL00-62, 044, ISO New England

E-29.

Docket# ER02-977, 001, Wisconsin Power & Light Company

E-30.

Docket# EL02-85, 000, Central Illinois Generation, Inc.

E-31.

Docket# EL02-63, 000, Constellation Power Source, Inc. v. California Power Exchange Corporation

E-32.

Docket# EL02-80, 000, PacifiCorp v. Reliant Energy Services, Inc., Morgan Stanley Capital Group, Inc., Williams Energy Marketing & Trading Company, El Paso Merchant Energy, L.P. and Enron Power Marketing, Inc.

Other#s EL02-81, 000, PacifiCorp v. Reliant Energy Services, Inc., Morgan Stanley Capital Group, Inc., Williams Energy Marketing & Trading Company, El Paso Merchant Energy, L.P. and Enron Power Marketing, Inc.

EL02-82, 000, PacifiCorp v. Reliant Energy Services, Inc., Morgan Stanley Capital Group, Inc., Williams Energy Marketing & Trading Company, El Paso Merchant Energy, L.P. and Enron Power Marketing, Inc.

EL02-83, 000, PacifiCorp v. Reliant Energy Services, Inc., Morgan Stanley Capital Group, Inc., Williams Energy Marketing & Trading Company, El Paso Merchant Energy, L.P. and Enron Power Marketing, Inc.

EL02-84, 000, PacifiCorp v. Reliant Energy Services, Inc., Morgan Stanley Capital Group, Inc., Williams Energy Marketing & Trading Company, El Paso Merchant Energy, L.P. and Enron Power Marketing, Inc.

E-33. Docket# EL02-89, 000, Tenaska Power Services Company v. Southwest Power Pool, Inc.

E-34. Docket# EG02-127, 000, CED Rock Springs, Inc.

Other#s EG02-129, 000, Rock Springs Generation, L.L.C.

E-35. Docket# ER97-1523, 011, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470, 010, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 017, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 018, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-1523, 018, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-1523, 019, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 008, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 015, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 016, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

E-36.

Docket# ER02-136, 003, Allegheny Power

Other#s ER02-454, 000, Allegheny Power

ER02-454, 001, Allegheny Power

ER02-454, 002, Allegheny Power

ER02-454, 003, Allegheny Power

E-37.

Docket# ER02-1422, 000, Midwest Independent Transmission System Operator, Inc.

Other#s ER02-1422, 001, Midwest Independent Transmission System Operator, Inc.

ER02-1422, 002, Midwest Independent Transmission System Operator, Inc.

ER02-1842, 000, Midwest Independent Transmission System Operator, Inc.

E-38.

Docket# EL01-94, 000, Rumford Power Associates, L.P. v. Central Maine Power Company

Other#s EL01-94, 001, Rumford Power Associates, L.P. v. Central Maine Power Company

E-39.

Omitted

E-40.

Docket# EC02-49, 000, The Cleveland Electric Illuminating Company, The Toledo Edison Company, FirstEnergy Ventures Corporation and Bay Shore Power Company

Other#s EL02-96, 000, NRG Northern Ohio Generating LLC, NRG Ashtabula Generating LLC and NRG Lakeshore Generating LLC

Miscellaneous Agenda

M-1.

Omitted

Markets, Tariffs and Rates—Gas

G-1.

Docket# RP02-259, 000, Algonquin Gas Transmission Company

G-2.

Docket# RP02-260, 000, Algonquin LNG, Inc.

G-3.

Docket# RP02-356, 000, Canyon Creek Compression Company

G-4.

Docket# RP02-252, 000, Columbia Gulf Transmission Company

G-5.

Omitted

G-6.

Docket# RP02-246, 000, Dominion Transmission, Inc.

G-7.

Docket# RP02-262, 000, East Tennessee Natural Gas Company

G-8.

Docket# RP02-264, 000, Egan Hub Partners, L.P.

G-9.

Docket# RP02-233, 000, Florida Gas Transmission Company

G-10.

Docket# RP02-237, 000, Kern River Gas Transmission Company

G-11.

Docket# RP02-265, 000, Maritimes & Northeast Pipeline, L.L.C.

G-12.

Docket# RP02-319, 000, National Fuel Gas Supply Corporation

G-13.

Docket# RP02-279, 000, Tennessee Gas Pipeline Company

G-14.

Docket# RP02-263, 000, Texas Eastern Transmission, LP

G-15.

Docket# RP02-307, 000, Texas Gas Transmission Corporation

G-16.

Docket# RP02-236, 000, Transwestern Pipeline Company

G-17.

Docket# RP02-347, 000, Williston Basin Interstate Pipeline Company

G-18.

Docket# RP96-389, 052, Columbia Gulf Transmission Company

G-19.

Docket# RP02-254, 000, Columbia Gas Transmission Corporation

G-20.

Omitted

G-21.

Docket# RP91-203, 072, Tennessee Gas Pipeline Company

Other#s RP92-132, 060, Tennessee Gas Pipeline Company

G-22.

Docket# PR02-1, 000, Acacia Natural Gas Corporation

Other#s PR02-1, 001, Acacia Natural Gas Corporation

G-23.

Docket# RP98-430, 002, Transcontinental Gas Pipe Line Corporation

G-24.

Docket# GP02-3, 000, Railroad Commission of Texas

G-25.

Docket# CP00-6, 004, Gulfstream Natural Gas System, L.L.C.

Other#s CP00-6, 005, Gulfstream Natural Gas System, L.L.C.

G-26.

Docket# RP00-333, 000, Crossroads Pipeline Company

Other#s RP00-333, 001, Crossroads Pipeline Company

RP01-51, 001, Crossroads Pipeline Company

RP01-51, 000, Crossroads Pipeline Company

G-27.

Docket# RP00-474, 000, Maritimes & Northeast Pipeline, L.L.C.

Other#s RP01-17, 000, Maritimes & Northeast Pipeline, L.L.C.

RP01-17, 002, Maritimes & Northeast Pipeline, L.L.C.

G-28.

Docket# RP02-346, 000, CMS Trunkline Gas Company, L.L.C.

G-29.

Docket# RP00-346, 000, Dauphin Island Gathering Partners

Other#s RP01-16, 000, Dauphin Island Gathering Partners

G-30.

Docket# RP02-235, 000, Northern Natural Gas Company

G-31.

Omitted

G-32.

Docket# RP02-345, 000, Tennessee Gas Pipeline Company

G-33.

Docket# RP00-459, 000, TransColorado Gas Transmission Company

Other#s RP01-32, 000, TransColorado Gas Transmission Company

RP01-477, 000, TransColorado Gas Transmission Company

RP02-5, 000, TransColorado Gas Transmission Company

G-34.

Docket# RP02-339, 000, Transcontinental Gas Pipe Line Corporation

G-35.

Docket# RP97-288, 020, Transwestern Pipeline Company

G-36.

Docket# RP00-494, 000, Williams Gas Pipelines Central, Inc.

Other#s RP01-13, 000, Williams Gas Pipelines Central, Inc.

RP01-13, 001, Williams Gas Pipelines Central, Inc.

G-37.

Docket# RP00-475, 000, CMS Trunkline Gas Company, LLC

Other#s RP96-126, 000, CMS Trunkline Gas Company, LLC

RP00-609, 000, CMS Trunkline Gas Company, LLC

RP00-609, 001, CMS Trunkline Gas Company, LLC

G-38.

Omitted

G-39.

Omitted

G-40.

Docket# OR01-6, 000, West Shore Pipe Line Company

G-41.

Omitted

G-42.

Docket# RP02-118, 002, High Island Offshore System, L.L.C.

Other#s RP02-118, 001, High Island Offshore System, L.L.C.

G-43.

Docket# RP00-341, 003, Egan Hub Partners, L.P.

Other#s RP01-48, 002, Egan Hub Partners, L.P.

G-44.

Docket# RM96-1, 021, Standards for Business Practices of Interstate Natural Gas Pipelines

G-45.

Docket# OR97-1, 000, Rio Grande Pipeline Company

G-46.

Docket# OR95-7, 002, Longhorn Partners Pipeline, L.P.

Energy Project—Hydro

H-1.

Docket# P-184, 087, El Dorado Irrigation District

Other#s P-184, 086, EL Dorado Irrigation District

H-2.

Docket# P-2077, 022, USGen New England, Inc.

H-3.

Docket# P-11873, 001, Symbiotics, LLC

H-4.

Docket# P-11911, 001, Symbiotics, LLC

H-5.

Docket# P-2869, 010, Village of Potsdam, New York

H-6.

Docket# P-2114, 107, Pat Kelleher v. Public Utility District No. 2 of Grant County, Washington

H-7.

Docket# EL99-26, 002, Hydro Investors, Inc. v. Trafalgar Power Inc., Christine Falls of New York, Inc., Franklin Industrial Complex, Inc., Aetna Life Insurance Company, Algonquin Power Corporation, Algonquin Power Income Fund and Algonquin Power Fund (Canada)

Other#s EL02-10 001 Hydro Investors, Inc. v. Trafalgar Power Inc., Christine Falls of New York, Inc., Franklin Industrial Complex, Inc., Aetna Life Insurance Company, Algonquin Power Corporation, Algonquin Power Income Fund and Algonquin Power Fund (Canada)

P-4900, 070, Trafalgar Power, Inc.

P-5000, 066, Trafalgar Power, Inc.

P-6878, 011, Trafalgar Power, Inc.

P-9685, 027, Trafalgar Power, Inc.

P-9709, 058, Trafalgar Power, Inc.

P-9821, 098, Trafalgar Power, Inc.

P-4639, 028, Christine Falls of New York, Inc.

P-3760, 012, Franklin Industrial Complex, Inc.

Energy Projects—Certificates

C-1.

Docket# CP02-46, 000, Tennessee Gas Pipeline Company

Other#s CP02-44, 000, Dominion Transmission, Inc.

CP02-47, 000, Dominion Transmission, Inc. and Tennessee Gas Pipeline Company

CP02-48, 000, National Fuel Gas Supply Corporation and Tennessee Gas Pipeline Company

CP02-53, 000, National Fuel Gas Supply Corporation and Tennessee Gas Pipeline Company

C-2.

Docket# CP02-24, 000, PG&E Gas Transmission, Northwest Corporation

C-3.

Docket# CP02-32, 000, Texas Eastern Transmission, LP

C-4.

Docket# CP01-1, 001, Colorado Interstate Gas Company

C-5.

Docket# CP02-56, 000, Southern Natural Gas Company

Other#s CP02-57, 000, SCG Pipeline, Inc.

CP02-58, 000, SCG Pipeline, Inc.

CP02-59, 000, SCG Pipeline, Inc.

C-6.

Docket# CP01-427, 001, Dominion Transmission, Inc.

C-7.

Docket# CP02-4, 001, Northwest Pipeline Corporation

Other#s CP02-4, 000, Northwest Pipeline Corporation

C-8.

Docket# CP97-319, 004, ANR Pipeline Company

Magalie R. Salas,
Secretary.

[FR Doc. 02-15957 Filed 6-20-02; 8:45 am]

BILLING CODE 6717-01-P